POSTAL REGULATORY COMMISSION

39 CFR Part 3020

[Docket Nos. MC2010-21 and CP2010-36]

Update to Product Lists

AGENCY: Postal Regulatory Commission.

ACTION: Final rule.

SUMMARY: The Commission is updating the product lists. This action reflects a publication policy adopted by Commission order. The referenced policy assumes periodic updates. The updates are identified in the body of this document. The product lists, which is re-published in its entirety, includes these updates.

DATES: Effective Date: April 3, 2015.

Applicability Dates: December 23, 2014, Priority Mail Contract 104 (MC2015-19 and CP2015-23); December 23, 2014, Priority Mail Contract 103 (MC2015-17 and CP2015-21); December 23, 2014, Priority Mail Express Contract 22 (MC2015-15 and CP2015-19); December 30, 2014, Priority Mail Express Contract 24 (MC2015-21 and CP2015-26); January 7, 2015, Priority Mail Contract 105 (MC2015-20 and CP2015-25); January 9, 2015, Priority Mail Express Contract 25 (MC2015-22 and CP2015-28); January 13, 2015, Global Expedited Package Services—Non-Published Rates Contract 5 (MC2015-23 and CP2015-29); February 6, 2015, Priority Mail & First-Class Package Service Contract 2 (MC2015-24 and CP2015-32); February 10, 2015, Priority Mail Contract 111 (MC2015-30 and CP2015-39); February 11, 2015, Priority Mail Contract 108 (MC2015-27 and CP2015-36); February 11, 2015, Priority Mail Contract 110 (MC2015-29 and CP2015-38); February 11, 2015, Priority Mail Contract 106 (MC2015-25 and CP2015-34); February 12, 2015, Priority Mail Contract 107 (MC2015-26 and CP2015-35); February 20, 2015, Priority Mail Contract 109 (MC2015-28 and CP2015-37); February 24, 2015, Priority Mail International Regional Rate Boxes Contract 1 (MC2015-31 and CP2015-40); February 27, 2015, Priority Mail Contract 113 (MC2015-33 and CP2015-43); March 2, 2015, Priority Mail Contract 112 (MC2015-32 and CP2015-42); March 17, 2015, Priority Mail Contract 119 (MC2015-39 and CP2015-50); March 17, 2015, Priority Mail Contract 117 (MC2015-37 and CP2015-48); March 18, 2015, Priority Mail Contract 115 (MC2015-35 and CP2015-46); March 19, 2015, Priority Mail Contract 116 (MC2015-36 and CP2015-47); March 19, 2015, Priority Mail Contract 120 (MC2015-40 and CP2015-51); March 19, 2015, Priority Mail Contract 114 (MC2015-34 and CP2015-45); and March 20, 2015, Priority Mail Contract 118 (MC2015-38 and CP2015-49).

FOR FURTHER INFORMATION CONTACT: David A. Trissell, General Counsel, at 202-789-6800.

SUPPLEMENTARY INFORMATION: This document identifies updates to the product lists, which appear as 39 CFR Appendix A to Subpart A of Part 3020—Mail Classification Schedule. Publication of the updated product lists in the Federal Register is addressed in the Postal Accountability and Enhancement Act (PAEA) of 2006.

Authorization. The Commission process for periodic publication of updates was established in Docket Nos. MC2010-21 and CP2010-36, Order No. 445, April 22, 2010, at 8.

Changes. The product lists are being updated by publishing a replacement in its entirety of 39 CFR Appendix A to Subpart A of Part 3020—Mail Classification Schedule. The following products are being added, removed, or moved within the product lists:

1. Priority Mail Contract 104 (MC2015-19 and CP2015-23) (Order No. 2302), added December 23, 2014.

2. Priority Mail Contract 103 (MC2015-17 and CP2015-21) (Order No. 2305), added December 23, 2014.

3. Priority Mail Express Contact 22 (MC2015-15 and CP2015-19) (Order No. 2307), added December 23, 2014.

4. Priority Mail Express Contract 24 (MC2015-21 and CP2015-26) (Order No. 2311), added December 30, 2014.

5. Priority Mail Contract 105 (MC2015-20 and CP2015-25) (Order No. 2317), added January 7, 2015.

6. Priority Mail Express Contract 25 (MC2015-22 and CP2015-28) (Order No. 2318), added January 9, 2015.

7. Global Expedited Package Services—Non-Published Rates Contract 5 (MC2015-23 and CP2015-29) (Order No. 2320), added January 13, 2015.

8. Priority Mail & First-Class Package Service Contract 2 (MC2015-24 and CP2015-32) (Order No. 2347), added February 6, 2015.

9. Priority Mail Contract 111 (MC2015-30 and CP2015-39) (Order No. 2352), added February 10, 2015.

10. Priority Mail Contract 108 (MC2015-27 and CP2015-36) (Order No. 2353), added February 11, 2015.

11. Priority Mail Contract 110 (MC2015-29 and CP2015-38) (Order No. 2354), added February 11, 2015.

12. Priority Mail Contract 106 (MC2015-25 and CP2015-34) (Order No. 2355), added February 11, 2015.

13. Priority Mail Contract 107 (MC2015-26 and CP2015-35) (Order No. 2356), added February 12, 2015.

14. Priority Mail Contract 109 (MC2015-28 and CP2015-37) (Order No. 2362), added February 20, 2015.

15. Priority Mail International Regional Rate Boxes Contract 1 (MC2015-31 and CP2015-40) (Order No. 2364), added February 24, 2015.

16. Priority Mail Contract 113 (MC2015-33 and CP2015-43) (Order No. 2371), added February 27, 2015.

17. Priority Mail Contract 112 (MC2015-32 and CP2015-42) (Order No. 2373), added March 2, 2015.

18. Priority Mail Contract 119 (MC2015-39 and CP2015-50) (Order No. 2393), added March 17, 2015.

19. Priority Mail Contract 117 (MC2015-37 and CP2015-48) (Order No. 2396), added March 17, 2015.

20. Priority Mail Contract 115 (MC2015-35 and CP2015-46) (Order No. 2399), added March 18, 2015.

21. Priority Mail Contract 116 (MC2015-36 and CP2015-47) (Order No. 2401), added March 19, 2015.

22. Priority Mail Contract 120 (MC2015-40 and CP2015-51) (Order No. 2403), added March 19, 2015.

23. Priority Mail Contract 114 (MC2015-34 and CP2015-45) (Order No. 2404), added March 19, 2015.

24. Priority Mail Contract 118 (MC2015-38 and CP2015-49) (Order No. 2405), added March 20, 2015.

Updated product lists. The referenced changes to the product lists are incorporated into 39 CFR Appendix A to Subpart A of Part 3020—Mail Classification Schedule.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise Appendix A to Subpart A of Part 3020—Mail Classification Schedule to read as follows:

Appendix A to Subpart A of Part 3020—Mail Classification Schedule

(An asterisk (*) indicates an organizational group, not a Postal Service product.)

Part A—Market Dominant Products

1000 Market Dominant Product List

First-Class Mail*

Single-Piece Letters/Postcards

Presorted Letters/Postcards

Flats

Parcels

Outbound Single-Piece First-Class Mail International

Inbound Letter Post

Standard Mail (Commercial and Nonprofit)*

High Density and Saturation Letters

High Density and Saturation Flats/Parcels

Carrier Route

Letters

Flats

Parcels

Every Door Direct Mail—Retail

Periodicals*

In-County Periodicals

Outside County Periodicals

Package Services*

Alaska Bypass Service

Bound Printed Matter Flats

Bound Printed Matter Parcels

Media Mail/Library Mail

Special Services*

Ancillary Services

International Ancillary Services

Address Management Services

Caller Service

Credit Card Authentication

International Reply Coupon Service

International Business Reply Mail Service

Money Orders

Post Office Box Service

Customized Postage

Stamp Fulfillment Services

Negotiated Service Agreements*

Domestic*

Discover Financial Services 1

Valassis Direct Mail, Inc. Negotiated Service Agreement

PHI Acquisitions, Inc. Negotiated Service Agreement

International*

Inbound Market Dominant Multi-Service Agreements with Foreign Postal Operators

Inbound Market Dominant Exprés Service Agreement 1

Nonpostal Services*

Alliances with the Private Sector to Defray Cost of Key Postal Functions

Philatelic Sales

Market Tests*

Part B—Competitive Products

2000 Competitive Product List

Domestic Products*

Priority Mail Express

Priority Mail

Parcel Select

Parcel Return Service

First-Class Package Service

Standard Post

International Products*

Outbound International Expedited Services

Inbound Parcel Post (at UPU rates)

Outbound Priority Mail International

International Priority Airmail (IPA)

International Surface Air List (ISAL)

International Direct Sacks—M-Bags

Outbound Single-Piece First-Class Package International Service

Negotiated Service Agreements*

Domestic*

Priority Mail Express Contract 8

Priority Mail Express Contract 10

Priority Mail Express Contract 11

Priority Mail Express Contract 12

Priority Mail Express Contract 13

Priority Mail Express Contract 14

Priority Mail Express Contract 15

Priority Mail Express Contract 16

Priority Mail Express Contract 17

Priority Mail Express Contract 18

Priority Mail Express Contract 19

Priority Mail Express Contract 20

Priority Mail Express Contract 21

Priority Mail Express Contract 22

Priority Mail Express Contract 23

Priority Mail Express Contract 24

Priority Mail Express Contract 25

Parcel Return Service Contract 3

Parcel Return Service Contract 4

Parcel Return Service Contract 5

Priority Mail Contract 24

Priority Mail Contract 29

Priority Mail Contract 31

Priority Mail Contract 32

Priority Mail Contract 33

Priority Mail Contract 34

Priority Mail Contract 35

Priority Mail Contract 36

Priority Mail Contract 38

Priority Mail Contract 39

Priority Mail Contract 40

Priority Mail Contract 41

Priority Mail Contract 42

Priority Mail Contract 43

Priority Mail Contract 44

Priority Mail Contract 45

Priority Mail Contract 46

Priority Mail Contract 47

Priority Mail Contract 48

Priority Mail Contract 49

Priority Mail Contract 50

Priority Mail Contract 51

Priority Mail Contract 52

Priority Mail Contract 53

Priority Mail Contract 54

Priority Mail Contract 55

Priority Mail Contract 56

Priority Mail Contract 57

Priority Mail Contract 58

Priority Mail Contract 59

Priority Mail Contract 60

Priority Mail Contract 61

Priority Mail Contract 62

Priority Mail Contract 63

Priority Mail Contract 64

Priority Mail Contract 65

Priority Mail Contract 66

Priority Mail Contract 67

Priority Mail Contract 68

Priority Mail Contract 69

Priority Mail Contract 70

Priority Mail Contract 71

Priority Mail Contract 72

Priority Mail Contract 73

Priority Mail Contract 74

Priority Mail Contract 75

Priority Mail Contract 76

Priority Mail Contract 77

Priority Mail Contract 78

Priority Mail Contract 79

Priority Mail Contract 80

Priority Mail Contract 81

Priority Mail Contract 82

Priority Mail Contract 83

Priority Mail Contract 84

Priority Mail Contract 85

Priority Mail Contract 86

Priority Mail Contract 87

Priority Mail Contract 88

Priority Mail Contract 89

Priority Mail Contract 90

Priority Mail Contract 91

Priority Mail Contract 92

Priority Mail Contract 93

Priority Mail Contract 94

Priority Mail Contract 95

Priority Mail Contract 96

Priority Mail Contract 97

Priority Mail Contract 98

Priority Mail Contract 99

Priority Mail Contract 100

Priority Mail Contract 101

Priority Mail Contract 102

Priority Mail Contract 103

Priority Mail Contract 104

Priority Mail Contract 105

Priority Mail Contract 106

Priority Mail Contract 107

Priority Mail Contract 108

Priority Mail Contract 109

Priority Mail Contract 110

Priority Mail Contract 111

Priority Mail Contract 112

Priority Mail Contract 113

Priority Mail Contract 114

Priority Mail Contract 115

Priority Mail Contract 116

Priority Mail Contract 117

Priority Mail Contract 118

Priority Mail Contract 119

Priority Mail Contract 120

Priority Mail Express & Priority Mail Contract 9

Priority Mail Express & Priority Mail Contract 10

Priority Mail Express & Priority Mail Contract 11

Priority Mail Express & Priority Mail Contract 12

Priority Mail Express & Priority Mail Contract 13

Priority Mail Express & Priority Mail Contract 14

Priority Mail Express & Priority Mail Contract 15

Priority Mail Express & Priority Mail Contract 16

Parcel Select & Parcel Return Service Contract 3

Parcel Select & Parcel Return Service Contract 5

Parcel Select Contract 1

Parcel Select Contract 2

Parcel Select Contract 3

Parcel Select Contract 4

Parcel Select Contract 5

Parcel Select Contract 6

Parcel Select Contract 7

Parcel Select Contract 8

Priority Mail—Non-Published Rates

Priority Mail—Non-Published Rates 1

First-Class Package Service Contract 1

First-Class Package Service Contract 3

First-Class Package Service Contract 4

First-Class Package Service Contract 5

First-Class Package Service Contract 6

First-Class Package Service Contract 7

First-Class Package Service Contract 8

First-Class Package Service Contract 9

First-Class Package Service Contract 10

First-Class Package Service Contract 11

First-Class Package Service Contract 12

First-Class Package Service Contract 13

First-Class Package Service Contract 14

First-Class Package Service Contract 15

First-Class Package Service Contract 16

First-Class Package Service Contract 17

First-Class Package Service Contract 18

First-Class Package Service Contract 19

First-Class Package Service Contract 20

First-Class Package Service Contract 21

First-Class Package Service Contract 22

First-Class Package Service Contract 23

First-Class Package Service Contract 24

First-Class Package Service Contract 25

First-Class Package Service Contract 26

First-Class Package Service Contract 27

First-Class Package Service Contract 28

First-Class Package Service Contract 29

First-Class Package Service Contract 30

First-Class Package Service Contract 31

First-Class Package Service Contract 32

First-Class Package Service Contract 33

First-Class Package Service Contract 34

First-Class Package Service Contract 35

First-Class Package Service Contract 36

First-Class Package Service Contract 37

Priority Mail Express, Priority Mail & First-Class Package Service Contract 1

Priority Mail Express, Priority Mail & First-Class Package Service Contract 2

Priority Mail Express, Priority Mail & First-Class Package Service Contract 3

Priority Mail Express, Priority Mail & First-Class Package Service Contract 4

Priority Mail & First-Class Package Service Contract 1

Priority Mail & First-Class Package Service Contract 2

Outbound International *

Global Expedited Package Services (GEPS) Contracts

GEPS 3

Global Direct Contracts

Global Direct Contracts 1

Global Bulk Economy (GBE) Contracts

Global Plus Contracts

Global Plus 1C

Global Plus 2C

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Priority Mail International Regional Rate Boxes—Non-Published Rates

Outbound Competitive International Merchandise Return Service Agreement with Royal Mail Group, Ltd.

Priority Mail International Regional Rate Boxes Contract 1

Inbound International *

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators 1

Special Services *

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services *

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests *

Metro Post

International Merchandise Return Service (IMRS)—Non-Published Rates

Customized Delivery

Shoshana M. Grove,
Secretary.

[FR Doc. 2015-07680 Filed 4-2-15; 8:45 am]

BILLING CODE 7710-FW-P